DEPARTMENT OF COMMERCE

International Trade Administration

[A-357-405]

Barbed Wire and Barbless Fencing Wire From Argentina; Expedited Sunset Review of Antidumping Duty Order; Final Results

AGENCY: Import Administration, International Trade Administration, Department of Commerce.

ACTION: Expedited sunset review of antidumping duty order on barbed wire and barbless fencing wire From Argentina; final results.

SUMMARY: On April 1, 2004, the Department of Commerce (“the Department”) initiated a sunset review of the antidumping duty order on barbed wire and barbless fencing wire (“barbed wire”) from Argentina. On the basis of the notice of intent to participate, and an adequate substantive response filed on behalf of the domestic interested parties and an inadequate response, i.e., no response from respondent interested parties, the Department conducted an expedited (120-day) sunset review. As a result of this sunset review, the Department finds that revocation of the antidumping duty order would likely lead to continuation or recurrence of dumping at the levels listed below in the section entitled “Final Results of Review.”

DATES: Effective Date: August 5, 2004.

FOR FURTHER INFORMATION CONTACT: Martha V. Douthit, Office of Policy, Import Administration, International Trade Administration, U.S. Department of Commerce, 14th Street and Constitution Avenue, NW., Washington, DC 20230; telephone: (202) 482-5050.

SUPPLEMENTARY INFORMATION:

Background

On April 1, 2004, the Department initiated a sunset review of the antidumping duty order on barbed wire from Argentina pursuant to section 751(c) of the Tariff Act of 1930, as amended (“the Act”).¹ The Department received Notice of Intent to Participate on behalf of Davis Wire Corporation, Keystone Steel & Wire Company, and Oklahoma Steel & Wire Company, Inc. (“domestic interested parties”), within the deadline specified in section 351.218(d)(1)(i) of the Department's regulations. The domestic interested parties claimed interested party status under section 771(9)(C) of the Act as U.S. producers of the subject merchandise. We received a complete response from the domestic interested parties within the 30-day deadline specified in the Department's regulations under section 351.218(d)(3)(i). However, we did not receive responses from any respondent interested parties as required in section 351.218(d)(3)(i) of the Departments regulations. As a result of receiving no responses from respondent interested parties, the Department conducted an expedited (120-day) sunset review of this order pursuant to section 751(c)(3)(B) of the Act and section 351.218(e)(1)(ii)(C)(2) of the Department's regulations.

¹ See Initiation of Five-Year (Sunset) Reviews, 69 FR 17129 (April 1, 2004).

The antidumping duty order remains in effect for all Argentine manufacturers, producers, and exporters of the subject merchandise.

Scope of the Order

The merchandise covered by this order is barbed wire and barbless fencing wire from Argentina, which is currently classifiable under Harmonized Tariff Schedule (“HTS”) item number 7313.00.00. The HTS item numbers are provided for convenience and customs purposes. The written product description remains dispositive.

Analysis of Comments Received

All issues raised in this review are addressed in the “Issues and Decision Memorandum” (“Decision Memo”) from Ronald K. Lorentzen, Acting Director, Office of Policy, Import Administration, to Joseph A. Spetrini, Acting Assistant Secretary for Import Administration, dated July 30, 2004, which is hereby adopted by this notice. The issues discussed in the Decision Memo include the likelihood of continuation or recurrence of dumping and the magnitude of the margin likely to prevail if the order were revoked. Parties can find a complete discussion of all issues raised in this sunset review and the corresponding recommendations in this public memo, which is on file in room B-099 of the main Commerce Building.

In addition, a complete version of the Decision Memo can be accessed directly on the Web at http://ia.ita.doc.gov/frn, under the heading “August 2004.” The paper copy and electronic version of the Decision Memo are identical in content.

Final Results of Review

We determine that revocation of the antidumping duty order on barbed wire from Argentina would likely lead to continuation or recurrence of dumping at the following percentage weighted-average percentage margins:

Manufacturers/exporters/producers | Weighted- average margin (percent)
Acindar Industria Argentina de Aceros, S.A. | 69.02
All Others | 69.02

This notice also serves as the only reminder to parties subject to administrative protective orders (“APO”) of their responsibility concerning the return or destruction of proprietary information disclosed under APO in accordance with 19 CFR 351.305 of the Department's regulations. Timely notification of the return or destruction of APO materials or conversion to judicial protective order is hereby requested. Failure to comply with the regulations and terms of an APO is a violation which is subject to sanction.

We are issuing and publishing the results and notice in accordance with sections 751(c), 752, and 777(i)(1) of the Act.

Dated: July 30, 2004.
Joseph A. Spetrini,
Acting Assistant Secretary for Import Administration.

[FR Doc. 04-17922 Filed 8-4-04; 8:45 am]

BILLING CODE 3510-DS-P